SECURITIES AND EXCHANGE COMMISSION

Sunshine Act Meeting

Federal Register Citation of Previous Announcement: [To be Published].

Status: Closed Meeting.

Place: 100 F Street, NE., Washington, DC

Announcement of Additional Meeting: Additional Meeting (Week of January 8, 2007).

A Closed Meeting has been scheduled for Thursday, January 11, 2007 at 10 a.m.

Commissioners and certain staff members who have an interest in the matter will attend the Closed Meeting.

The General Counsel of the Commission, or his designee, has certified that, in his opinion, one or more of the exemptions set forth in 5 U.S.C. 552b(c)(5), (7), (9)(B) and (10) and 17 CFR 200.402(a)(5), (7), (9)(ii) and (10) permit consideration of the scheduled matter at the Closed Meeting.

Commissioner Campos as duty officer, voted to consider the item listed for the closed meeting in closed session, and determined that no earlier notice thereof was possible.

The subject matter of the Closed Meeting scheduled for Thursday, January 11, 2007 will be: Institution and settlement of injunctive action.

At times, changes in Commission priorities require alterations in the scheduling of meeting items. For further information and to ascertain what, if any, matters have been added, deleted or postponed, please contact:

The Office of the Secretary at (202) 551-5400.

Dated: January 9, 2007.
Nancy M. Morris,
Secretary.

[FR Doc. 07-113 Filed 1-9-07; 4:03 pm]

BILLING CODE 8011-01-P